DEPARTMENT OF HEALTH AND HUMAN SERVICES

National Institutes of Health

National Institute of Child Health and Human Development; Notice of Meeting

Pursuant to section 10(a) of the Federal Advisory Committee Act, as amended (5 U.S.C. Appendix 2), notice is hereby given of a meeting of the National Advisory Child Health and Human Development Council.

The meeting will be open to the public, with attendance limited to space available. Individuals who plan to attend and need special assistance, such as sign language interpretation or other reasonable accommodations, should notify the Contact Person listed below in advance of the meeting.

Name of Committee: National Advisory Child Health and Human Development Council; NACHHD Subcommittee on Planning and Policy.

Date: May 15, 2008.

Time: 2 p.m. to 3:30 p.m.

Agenda: Topics to be discussed include: (1) Report of the Director; (2) Budget Updates; (3) Legislative Updates.

Place: National Institutes of Health, Building 31, 31 Center Drive, Room 2A03, Bethesda, MD 20892, (Telephone Conference Call).

Contact Person: Mona Rowe, Executive Secretary, NICHD/NIH/OSPAC, 31 Center Drive, Suite 2A-18, Bethesda, MD 20892, (301) 496-1877.

This notice is being published less than 15 days prior to the meeting due to the timing limitations imposed by the Executive Secretary's need for confirmation from subcommittee members on their availability to participate in this meeting.

Information is also available on the Institute's/Center's home page: http://www.nichd.nih.gov/about/nachhd.htm, where an agenda and any additional information for the meeting will be posted when available.

(Catalogue of Federal Domestic Assistance Program Nos. 93.864, Population Research; 93.865, Research for Mothers and Children; 93.929, Center for Medical Rehabilitation Research; 93.209, Contraception and Infertility Loan Repayment Program, National Institutes of Health, HHS)

Dated: May 2, 2008.
Jennifer Spaeth,
Director, Office of Federal Advisory Committee Policy.

[FR Doc. E8-10325 Filed 5-9-08; 8:45 am]

BILLING CODE 4140-01-M